ENVIRONMENTAL PROTECTION AGENCY

[FRL-7383-7]

Agency Information Collection Activities: Proposed Collection; Comment Request; Reporting Requirements Under EPA's Water Alliances for Voluntary Efficiency (WAVE) Program

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Reporting Requirements Under EPA's Water Alliances for Voluntary Efficiency (WAVE) Program, EPA ICR Number 1654.04, OMB Control Number 2040-0164, expiring March 31, 2003. Before submitting the ICR to OMB for review and approval, EPA is soliciting comments on specific aspects of the proposed information collection as described below.

DATES: Comments must be submitted on or before November 25, 2002.

ADDRESSES: Environmental Protection Agency, Office of Wastewater Management, WAVE ICR Docket, Municipal Assistance Branch (Mail Code 4204M), 1200 Pennsylvania Avenue, NW., Washington, DC 20460. Interested persons may obtain a copy of the ICR amendment and supporting analysis without charge by contacting the individual listed below.

FOR FURTHER INFORMATION CONTACT: Valerie Martin, Telephone: (202) 564-0623. Facsimile Number: (202) 501-2396. e-mail: martin.valerie@epa.gov.

SUPPLEMENTARY INFORMATION: Comments: Comments shall be submitted to WAVE ICR Comment Clerk, Mail Code 4204M, Environmental Protection Agency, Office of Wastewater Management, 1200 Pennsylvania Avenue, NW., Washington, DC 20460. Commenters who want EPA to acknowledge receipt of their comments should enclose a self-addressed stamped envelope. Comments may also be submitted electronically to martin.valerie@epa.gov.

Electronic comments must be submitted as an ASCII file avoiding the use of special characters and forms of encryption. Electronic comments must be identified by use of the words “WAVE ICR Comments.” No Confidential Business Information (CBI) should be submitted through e-mail. Comments and data will also be accepted on disks in Corel WordPerfect 9 format or ASCII file format. Electronic comments on this notice may be filed online at many Federal Depository Libraries. The record for this proposed ICR renewal has been established in the Office of Wastewater Management, Municipal Assistance Branch and includes supporting documentation as well as printed, paper versions of electronic comments. It does not include any information claimed as CBI. The record is available for inspection from 9 a.m. to 4 p.m., Monday through Friday, excluding legal holidays, at the Municipal Assistance Branch, EPA East Building, Room 7220-C, 1201 Constitution Avenue, NW., Washington, DC 20004. For access to the docket materials, please call (202) 564-0623 to schedule an appointment.

Affected entities: Entities potentially affected by this action are commercial businesses, medical facilities, educational institutions, state and local governments, and multi-family housing units that voluntarily join EPA's WAVE Program. Major respondents are lodging establishments, office buildings, educational institutions, medical facilities, and state and local governments.

Title: Reporting Requirements Under EPA's Water Alliances for Voluntary Efficiency (WAVE) Program (OMB Control No. 2040-0164; EPA ICR No. 1654.04) expiring March 31, 2003.

Abstract: EPA initially collects facility information and thereafter annually collects water, energy, and cost savings information from participants in the WAVE program. WAVE Partners are commercial businesses or institutions that voluntarily agree to implement cost-effective water efficiency measures in their facilities. Initially the WAVE Program targeted the lodging industry, but now includes office buildings, educational institutions and medical facilities. Another type of participant, “Supporters,” works with EPA to promote water efficiency. Supporters are equipment manufacturers, water management companies, utilities, state and local governments, and the like.

The purpose of the WAVE Program is pollution prevention. EPA and the Pollution Prevention Act define pollution prevention as “source reduction,” and other practices that reduce or eliminate the creation of pollutants through increased efficiency in the use of raw materials, energy, water, or other resources, or through protection of natural resources by conservation. By promoting water efficiency, WAVE prevents pollution in two basic ways. First, wastewater flows are reduced which can increase treatment efficiency at wastewater treatment plants resulting in reduced pollutant loads. Second, less water used means that less energy will be used to treat, transport, and heat drinking water and to transport and treat wastewater. To the extent that the reduced energy use so achieved is electrical energy, power plant emissions are reduced. Water efficiency also causes less water to be withdrawn and helps preserve streamflow to maintain a healthy aquatic environment; in addition, less pumping of groundwater lowers the chance that pollutants that may be in the groundwater will be drained into a water supply well.

EPA uses the information to maintain a profile of program membership and to monitor the success of the program, demonstrate that pollution prevention can be accomplished with a non-regulatory approach, and to promote the program to potential partners. Participation in the WAVE Program is voluntary; however, a participant joins the program by signing and submitting a Membership Agreement and an annual Results Report to EPA to receive and retain program benefits, such as software and publicity. No participant is required to submit confidential business information. EPA maintains and distributes a list of program participants, and presents aggregated data only in its program progress reports. An agency may not conduct or sponsor, and a person is not required to respond to, a collection of information unless it displays a currently valid OMB control number. The OMB control numbers for EPA's regulations are listed in 40 CFR part 9 and 49 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and record keeping burden for this collection of information is estimated to average three hours and three minutes per Membership Agreement response, a one-time submission, and five hours and 54 minutes per Results Report response, an annual submission. Approximately 136 facilities will be subject to this information collection for a total estimated annual burden of 389 hours, and a total estimated annualized cost burden of $28,974. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: September 18, 2002.
Richard T. Kuhlman,
Acting Director, Office of Wastewater Management.

[FR Doc. 02-24495 Filed 9-25-02; 8:45 am]

BILLING CODE 6560-50-P